DEPARTMENT OF HOMELAND SECURITY

Office of the Secretary

Privacy Act of 1974; System of Records

AGENCY: Privacy Office, DHS.

ACTION: Notice of removal of two Privacy Act systems of record notices.

SUMMARY: In accordance with the Privacy Act of 1974, the Department of Homeland Security is giving notice that it will remove two systems of record notices from its inventory of record systems because the Department no longer requires use of these systems, originally transferred to the Department of Homeland Security from the Department of Energy upon creation in January 2003. These two obsolete systems are: DOE-81, Counterintelligence Administrative and Analytical Records and Reports and DOE-84, Counterintelligence Investigative Records (September 1, 1989). Removing these system of records from the Department's inventory will in no way impact the use of these system of records by the Department of Energy.

DATES: Effective Date: January 20, 2009.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is removing two Department of Homeland Security (DHS) system of records notices from its inventory of record systems.

DHS inherited these record systems upon its creation in January of 2003. Upon review of its inventory of record systems, DHS has determined it no longer needs these two systems and is retiring the following:

DHS is retiring use of DOE-81 (59 FR 46528 September 1, 1989) Counterintelligence Administrative and Analytical Records and Reports. This system was originally established in order to maintain records concerning foreign intelligence threats; administrative inquiries and investigations; reports on foreign contacts and travel; classified and sensitive programs, personnel, information and activities; briefings and debriefings; intelligence on hostile and foreign intelligence entities; and counterintelligence training.

DHS is retiring use of DOE-84 (59 FR 46530 September 1, 1989) Counterintelligence Investigative Records. This system was originally established in order to maintain records on joint law enforcement counterintelligence-related investigations with the FBI or other Federal law enforcement agencies in order to detect and prevent foreign intelligence threats directed at or involving classified and sensitive information, programs, facilities, personnel, and other Departmental resources.

Eliminating these systems of record notices will have no adverse impacts on individuals, but will promote the overall streamlining and management of DHS Privacy Act record systems. Further, removing these systems of records from the Department's inventory will in no way impact the use of these systems of records by the Department of Energy.

Dated: December 10, 2008.
Hugo Teufel III,
Chief Privacy Officer, Department of Homeland Security.

[FR Doc. E8-29847 Filed 12-18-08; 8:45 am]

BILLING CODE 4410-10-P